OFFICE OF PERSONNEL MANAGEMENT

Submission for Renewal: Information Collection; Questionnaire for National Security Positions, Standard Form 86 (SF 86)

AGENCY: U.S. Office of Personnel Management.

ACTION: 60-Day notice and request for comments.

SUMMARY: Federal Investigative Services (FIS), U.S. Office of Personnel Management (OPM) offers the general public and other Federal agencies the opportunity to comment on an information collection request (ICR), Office of Management and Budget (OMB) Control No. 3206-0005, for Questionnaire for National Security Positions, Standard Form 86 (SF 86). As required by the Paperwork Reduction Act of 1995, (Pub. L. 104-13, 44 U.S.C. chapter 35) as amended by the Clinger-Cohen Act (Pub. L. 104-106), OPM is soliciting comments for this collection. The Office of Management and Budget is particularly interested in comments that:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

DATES: Comments are encouraged and will be accepted until May 13, 2013. This process is conducted in accordance with 5 CFR 1320.1.

ADDRESSES: Interested persons are invited to submit written comments on the proposed information collection to the Federal Investigative Services, U.S. Office of Personnel Management, 1900 E. Street NW., Washington, DC 20415, Attention: Donna McLeod or sent via email to FISFormsComments@opm.gov.

FOR FURTHER INFORMATION CONTACT: A copy of this ICR, with applicable supporting documentation, may be obtained by contacting the Federal Investigative Services, U.S. Office of Personnel Management, 1900 E. Street NW., Washington, DC 20415, Attention: Donna McLeod or sent via email to FISFormsComments@opm.gov.

SUPPLEMENTARY INFORMATION: The Questionnaire for National Security Positions, SF 86, housed in a system named e-QIP (Electronic Questionnaires for Investigative Processing), is an information collection completed by applicants for, or incumbents of, Federal Government civilian or military positions, or positions in private entities performing work for the Federal Government under contract. The collection is used as the basis of information:

• By the Federal Government in conducting background investigations, reinvestigations, and continuous evaluations, as appropriate, of persons under consideration for or retention in national security sensitive positions as defined in Executive Order 10450 and 5 CFR part 732, and for positions requiring eligibility for access to classified information under Executive Order 12968;

• By agencies in determining whether a person performing work for or on behalf of the Federal Government under a contract should be deemed eligible for logical or physical access when the nature of the work is sensitive and could bring about a material adverse effect on national security.

The SF 86 is completed by civilian employees of the Federal Government, military personnel, and non-federal employees, including Federal contractors and individuals otherwise not directly employed by the Federal Government but who perform work for or on behalf of the Federal Government. For applicants for civilian Federal employment, the SF 86 is to be used only after a conditional offer of employment has been made. It is estimated that 263,566 non-federal individuals, will complete the SF 86 annually. The SF 86 takes approximately 150 minutes to complete. The estimated annual burden is 658,915 hours. e-QIP is a web-based system application that currently houses electronic versions of the SF 86. This electronic data collection tool provides immediate data validation to ensure accuracy of the respondent's personal information. The e-Government initiative mandates that agencies utilize e-QIP for all investigations and reinvestigations. A variable in assessing burden hours is the nature of the electronic application. The electronic application includes branching questions and instructions which provide for a tailored collection from the respondent based on varying factors in the respondent's personal history. The burden on the respondent is reduced when the respondent's personal history is not relevant to a particular question, since the question branches, or expands for additional details, only for those persons who have pertinent information to provide regarding that line of questioning. As such, the burden on the respondent will vary depending on whether the information collection relates to the respondent's personal history. Additionally, once entered, a respondent's complete and certified investigative data remains secured in the e-QIP system until the next time the respondent is sponsored by an agency to complete a new investigative form. Upon initiation, the respondent's previously entered data (except “yes/no” questions) will populate a new investigative request and the respondent will be allowed to update information and certify the data. In this instance, time to complete the form is reduced significantly.

OPM proposes the following changes to instructions in the SF 86. The section, “Instructions for Completing This Form (Paper Form Only),” will be amended to delete the instruction “If additional space is required for an explanation or to list your residences, employment/self-employment, or education, you should use a continuation sheet, SF 86A.” The SF 86A is no longer useful as SF 86 requests are conducted entirely through e-QIP. The instructions in Section 11, “Where You Have Lived,” will provide clarifying instruction to not list a spouse, cohabitant, or relative as the verifier for periods of residence. The instructions in Section 12, “Where You Went to School,” will include the Department of Education Web site (http://ope.ed.gov/accreditation/search.aspx) to assist respondents in obtaining their school address(es). The instructions in Section 20b, “Foreign Government Contacts,” regarding contact with a foreign government, will be amended so that the respondent need report neither contact related to official U.S. Government travel (including official contact as a U.S. military service member on a U.S. Government military duty assignment) nor contact related to routine visa applications and border crossings on a U.S. passport. Section 20c, “Foreign Travel,” will be amended to clarify that travel solely for U.S. Government business is travel on official Government orders. Section 23, “Illegal Use of Drugs and Drug Activity,” will include instruction to clarify that drug use or activity illegal under Federal laws must be reported, even if that use or activity is legal under state or local law(s). OPM intends to amend the “Authorization for Release of Information” to clarify that information obtained from “other sources of information” includes publicly available electronic information.

OPM proposes the following change to more accurately collect information regarding legally recognized relationships. Section 17, “Marital Status,” will be renamed “Marital/Relationship Status.” Where the form requires collection of information regarding civil marriages and divorces, the same collection of information will be required of legally recognized civil unions and legally recognized domestic partnerships, and dissolutions of these. Since information regarding legally recognized civil unions and domestic partnerships will be captured in the “Marital/Relationship Status” section, the definition of cohabitant will be amended to exclude legally recognized civil unions and legally recognized domestic partnerships. Changes will be made to the branching questions in Section 20a, “Foreign Activities,” to collect details regarding prior ownership of foreign real estate that has since been sold. This change will correct a deficit in the branching questions that do not currently account for this scenario.

OPM is proposing to make changes to Question 21, “Psychological and Emotional Health,” in connection with a comprehensive review being conducted by the Director of National Intelligence, in his role as Security Executive Agent, with the Department of Defense, OPM, and other Federal agencies, for the purpose of clarifying support for mental health treatment and encouraging pro-active management of mental health conditions to support wellness and recovery.

U.S. Office of Personnel Management.
John Berry,
Director.

[FR Doc. 2013-05611 Filed 3-11-13; 8:45 am]

BILLING CODE 6325-53-P